DEPARTMENT OF COMMERCE

International Trade Administration

[A-533-871; A-475-835; A-469-815]

Finished Carbon Steel Flanges From India, Italy, and Spain: Final Results of the Expedited First Sunset Review of the Antidumping Duty Orders

AGENCY: Enforcement and Compliance, International Trade Administration, Department of Commerce.

SUMMARY: As a result of these expedited sunset reviews, the U.S. Department of Commerce (Commerce) finds that revocation of the antidumping duty (AD) orders on finished carbon steel flanges (flanges) from India, Italy, and Spain would be likely to lead to continuation or recurrence of dumping at the levels indicated in the “Final Results of Sunset Review” section of this notice.

DATES: Applicable August 30, 2022.

FOR FURTHER INFORMATION CONTACT: Harrison Tanchuck or Emily Bradshaw, AD/CVD Operations, Office VI, Enforcement and Compliance, International Trade Administration, U.S. Department of Commerce, 1401 Constitution Avenue NW, Washington, DC 20230; telephone: (202) 482-7421 and (202) 482-3896 respectively.

SUPPLEMENTARY INFORMATION:

Background

On May 2, 2022, Commerce published the notice of initiation of the first sunset reviews of the Orders,¹ pursuant to section 751(c) of the Tariff Act of 1930, as amended (the Act).² Commerce received a notice of intent to participate from domestic interested parties ³ within the deadline specified in 19 CFR 351.218(d)(1)(i), after the date of publication of the Initiation Notice.⁴ Each claimed interested party status under section 771(9)(C) of the Act as domestic producers engaged in the production of flanges in the United States.

¹ See Finished Carbon Steel Flanges from India and Italy: Antidumping Duty Orders, 82 FR 40136 (August 24, 2017); and Finished Carbon Steel Flanges from Spain: Antidumping Duty Order, 82 FR 27229 (June 14, 2017 (collectively, Orders).

² See Initiation of Five-Year (Sunset) Review, 87 FR 25617 (May 2, 2021) (Initiation Notice).

³ The domestic interested parties are Weldbend Corporation (Weldbend) and Boltex Manufacturing Company Inc. (Boltex) (collectively, domestic interested parties). In 2020, Boltex Manufacturing Co., L.P. reorganized to Boltex Manufacturing Company Inc.).

⁴ See Domestic Interested Parties' Letters, “Finished Carbon Steel Flanges from India: Notice of Intent to Participate by Weldbend Corporation & Boltex Corporation,” dated May 17, 2022; “Finished Carbon Steel Flanges from Italy: Notice of Intent to Participate by Weldbend Corporation & Boltex Manufacturing Co., L.P.,” dated May 17, 2022; and “Finished Carbon Steel Flanges from Spain: Notice of Intent to Participate by Weldbend Corporation & Boltex Manufacturing Co., L.P.,” dated May 17, 2022.

Commerce received a substantive response from the domestic interested parties within the 30-day deadline specified in 19 CFR 351.218(d)(3)(i).⁵ We did not receive a substantive response from any other interested party in these proceedings.

⁵ See Domestic Interested Party's Letters, “Finished Carbon Steel Flanges from India: Substantive Response of Domestic Interested Parties,” dated June 1, 2022; “Finished Carbon Steel Flanges from Italy: Substantive Response of Domestic Interested Parties,” dated June 1, 2022; and “Finished Carbon Steel Flanges from Spain: Substantive Response of Domestic Interested Parties,” dated June 1, 2022 (collectively, Substantive Response).

On June 21, 2022, Commerce notified the U.S. International Trade Commission that it did not receive an adequate substantive response from respondent interested parties.⁶ As a result, pursuant to section 751(c)(3)(B) of the Act and 19 CFR 351.218(e)(1)(ii)(C)(2), Commerce conducted an expedited (120-day) sunset review of the Orders.

⁶ See Commerce's Letter, “Sunset Reviews Initiated on May 2, 2022,” dated May 2, 2022.

Scope of the Orders

The products covered by the Orders are finished carbon steel flanges. For a complete description of the scope of these Orders, see the Issues and Decision Memorandum.⁷

⁷ See Memorandum, “Issues and Decision Memorandum for the Expedited Sunset Review of the Antidumping Duty Orders on Finished Carbon Steel Flanges from India, Italy, and Spain,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if the Orders were revoked.⁸ The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://access.trade.gov/public/FRNoticesListLayout.aspx.

⁸ Id.

Final Results of Sunset Reviews

Pursuant to sections 751(c)(1) and 752(b) of the Act, Commerce determines that revocation of the Orders would be likely to lead to the continuation or recurrence of dumping, and that the magnitude of the margins of dumping likely to prevail would be weighted-average margins of up to the following percentages:

Country | Weighted- average dumping margin (percent)
India | 12.58
Italy | 204.53
Spain | 24.43

Administrative Protective Order (APO)

This notice serves as the only reminder to parties subject to an APO of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing this notice in accordance with sections 751(c), 752(b), and 777(i)(1) of the Act.

Dated: August 23, 2022.
Lisa W. Wang,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margin of Dumping Likely to Prevail

VII. Final Results of Review

VIII. Recommendation

[FR Doc. 2022-18580 Filed 8-29-22; 8:45 am]

BILLING CODE 3510-DS-P